DEPARTMENT OF COMMERCE

Foreign-Trade Zones Board

[Docket T-3-2011]

Foreign-Trade Zone 72—Indianapolis, IN; Application for Temporary/Interim Manufacturing Authority; Brevini Wind USA, Inc. (Wind Turbine Gear Boxes), Yorktown, IN

An application has been submitted to the Executive Secretary of the Foreign-Trade Zones Board (the Board) by the Indianapolis Airport Authority, grantee of FTZ 72, requesting temporary/interim manufacturing (T/IM) authority within FTZ 72 at the Brevini Wind USA, Inc. (Brevini), facility, located in Yorktown, Indiana. The application was filed on July 14, 2011.

The Brevini facility (approximately 400 employees, 20 acres, 2,000 units/year) is located at 2400 Priority Way, within the Muncie Delaware County Park One Industrial Park in Yorktown, Indiana (Site 14). Under T/IM procedures, Brevini has requested authority to produce wind turbine gear boxes (HTSUS 8483.40, duty rate: 2.5%). Foreign components that would be used in production (representing 25% of the value of the finished gear boxes) include: shafts (HTSUS 8483.10), gears, (8483.40), and parts of gear boxes (8483.90) (duty rate range: 2.5%-5.5%, 25¢ ea. + 3.9%). T/IM authority could be granted for a period of up to two years.

FTZ procedures could exempt Brevini from customs duty payments on the foreign components used in export production. The company anticipates that some 30 percent of the plant's shipments will be exported. On its domestic sales, Brevini would be able to choose the duty rate during customs entry procedures that applies to wind turbine gear boxes (duty rate: 2.5%) for the foreign inputs noted above.

In accordance with the Board's regulations, Pierre Duy of the FTZ Staff is designated examiner to evaluate and analyze the facts and information presented in the application and case record and to report findings and recommendations pursuant to Board Orders 1347 and 1480.

Public comment is invited from interested parties. Submissions (original and 3 copies) shall be addressed to the Board's Executive Secretary at the following address: Office of the Executive Secretary, Foreign-Trade Zones Board, U.S. Department of Commerce, Room 2111, 1401 Constitution Ave., NW., Washington, DC 20230. The closing period for their receipt is August 19, 2011.

Brevini has also submitted a request to the FTZ Board for FTZ manufacturing authority beyond a two-year period, which may include additional products and components. It should be noted that the request for extended authority would be docketed separately and would be processed as a distinct proceeding. Any party wishing to submit comments for consideration regarding the request for extended authority would need to submit such comments pursuant to the separate notice that would be published for that request.

A copy of the application will be available for public inspection at the Office of the Foreign-Trade Zones Board's Executive Secretary at the address listed above, and in the “Reading Room” section of the Board's Web site, which is accessible via http://www.trade.gov/ftz. For further information, contact Pierre Duy at Pierre.Duy@trade.gov or (202) 482-1378.

Dated: July 14, 2011.
Andrew McGilvray,
Executive Secretary.

[FR Doc. 2011-18300 Filed 7-19-11; 8:45 am]

BILLING CODE P